ENVIRONMENTAL PROTECTION AGENCY

[EPA-HQ-OAR-2007-0358; FRL-8496-5]

Agency Information Collection Activities; Submission to OMB for Review and Approval; Comment Request; Responsible Appliance Disposal Program; EPA ICR No. 2254.01, OMB Control No. 2060-NEW

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 17, 2007.

ADDRESSES: Submit your comments, referencing Docket ID No. EPA-HQ-OAR-2007-0358, to (1) EPA online using www.regulations.gov (our preferred method), by e-mail to a-and-r-docket@epamail.epa.gov, or by mail to: EPA Docket Center, Environmental Protection Agency, Air Docket, 1200 Pennsylvania Avenue, NW., Mailcode 2822T, Washington, DC 20460, and (2) OMB by mail to: Office of Information and Regulatory Affairs, Office of Management and Budget, Attention: Desk Officer for EPA, 725 17th Street, NW., Washington, DC 20503.

FOR FURTHER INFORMATION CONTACT: Evelyn Swain, Stratospheric Protection Division, Office of Atmospheric Programs, Office of Air and Radiation, Environmental Protection Agency, 1200 Pennsylvania Ave., NW., Mailcode 6205J, Washington, DC 20460; telephone number: (202) 343-9956; facsimile number: (202) 343-2362; e-mail address: swain.evelyn@epa.gov.

SUPPLEMENTARY INFORMATION: EPA has submitted the following ICR to OMB for review and approval according to the procedures prescribed in 5 CFR 1320.12. On August 14, 2007 (72 FR 45423), EPA sought comments on this ICR pursuant to 5 CFR 1320.8(d). EPA received no comments. Any additional comments on this ICR should be submitted to EPA and OMB within 30 days of this notice.

EPA has established a public docket for this ICR under Docket ID No. EPA-HQ-OAR-2007-0358, which is available for online viewing at www.regulations.gov, or in person viewing at the Air Docket in the EPA Docket Center (EPA/DC), EPA West Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Responsible Appliance Disposal Program.

ICR Numbers: EPA ICR No. 2254.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Paperwork Reduction Act requires the information found in this Information Collection Request, to assess the burden (in hours and dollars) of the reporting and record keeping necessary to maintain the Responsible Appliance Disposal (RAD) Program. The RAD Program, developed in 2006, is a voluntary, non-regulatory program that promotes the proper handling of refrigerated household appliances at the time of their disposal. EPA is partnering with utilities, municipalities, retailers, manufacturers, and universities to promote the proper disposal of older household appliances, namely refrigerators, freezers, window air conditioning units, and dehumidifiers, in order to prevent emissions of refrigerants and foam-blowing agents that are ozone depleting substances and/or greenhouse gases. The Program is also expected to save landfill space, save energy used by older appliances, lead to the recovery of valuable materials for use in making new products (e.g., metals, plastics, glass), and prevent the release of hazardous substances—including PCBs, mercury, and used oil.

Utilities, municipalities, retailers, manufacturers, and universities can participate in the program for guidance on proper appliance disposal practices and recognition of their efforts. Participation in the program begins with completion of a Partnership Agreement that outlines responsibilities of the RAD Program. This Partnership Agreement reflects a voluntary agreement between a utility, municipality, retailer, manufacturer, or university and EPA. By joining the program, a Partner agrees to complete an annual reporting form identifying the appliances handled and the fates of their components. If the reporting form is completed electronically, it provides feedback for the user on the gross impact of their program on the environment, energy savings, and consumer savings. This agreement can be terminated by either Party 20 days after the receipt of written notice by the other Party with no penalties or continuing obligations.

Burden Statement: The annual public reporting and recordkeeping burden for this collection of information is estimated to average 6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Utilities, municipalities, retailers, manufacturers, and universities.

Estimated Number of Respondents: 50.

Frequency of Response: Annual.

Estimated Total Annual Hour Burden: 302 hours.

Estimated Total Annual Cost: $26,283 in labor costs and no annualized capital or O&M costs.

Dated: November 8, 2007.
Sara Hisel-McCoy,
Director, Collection Strategies Division.

[FR Doc. E7-22443 Filed 11-15-07; 8:45 am]

BILLING CODE 6560-50-P